DEPARTMENT OF HEALTH AND HUMAN SERVICES

Centers for Disease Control and Prevention

[Program Announcement 01046]

Support State Oral Disease Prevention Programs; Notice of Availability of Funds

A. Purpose

The Centers for Disease Control and Prevention (CDC) announces the availability of fiscal year (FY) 2001 funds for a cooperative agreement program to “Support State Oral Disease Prevention Programs”. This program addresses “The Healthy People 2010” focus areas of Oral Health, Public Health Infrastructure, and Educational and Community-Based Programs. For additional Healthy People 2010 information please see AR-11 in Attachment I.

The purpose of this program is to establish, strengthen and expand the capacity of states, territories, and tribes to plan, implement, and evaluate oral disease prevention and health promotion programs, targeting populations and disparities, as outlined in “Oral Health in America: A Report of the Surgeon General”, see appendix IV. These programs may include addressing dental caries, periodontal diseases, oral and pharyngeal cancers, and other oral conditions considered to be public health problems. With enhanced capacity, States can direct and integrate strategies and resources, serving as the linking agent for collaboration between the federal, state, and local levels, including both the private and public sectors, in support of improved oral health outcomes. Competitive cooperative agreements with state health departments or agencies are announced for:

Part A: CORE

To assist States, territories, and tribes in establishing, strengthening or expanding oral health core capacity and infrastructure to the level required for effective programs. For more information on the components of state oral health programs as outlined in the Association of State and Territorial Dental Directors' “Building Infrastructure and Capacity in State and Territorial Oral Health Programs” see Appendices I and IV.

It is expected that CORE funding will be used to establish, strengthen and expand core capacity and infrastructure which may include, but not be limited to, support for (1) oral health program leadership (e.g., state dental director); (2) epidemiologic expertise needed to collect and analyze data, monitor oral health status, risk behaviors, preventive interventions and programs, and target intervention efforts; and (3) coordination and/or management of PREVENTION INTERVENTION(S) (e.g., prevention program management and/or coordination, support staff and community health awareness, education and health awareness).

Part B: Prevention Interventions

To provide funding to support the establishment, enhancement or expansion of oral health disparity reduction programs once adequate capacity and infrastructure are in place. For more information on community-based oral disease prevention strategies, see Appendix IV, “The Community Guide to Preventive Services”. Prevention programs are:

B-(1) Community water fluoridation; or

B-(2) School based or school linked dental sealant programs.

B. Eligible Applicants

Limited Competition

Assistance will be provided only to the health departments of States or their bona fide agents, including the District of Columbia, the Commonwealth of Puerto Rico, the Virgin Islands, the Commonwealth of the Northern Mariana Islands, American Samoa, Guam, federally recognized Indian tribal governments, the Federated States of Micronesia, the Republic of the Marshall Islands, and the Republic of Palau. In consultation with States, assistance may be provided to political subdivisions of States.

Applicants may apply for assistance under Part A or Part A and Part B. All applicants are required to demonstrate the existing oral health program components as described under CORE (Part A). Applicants may also request support under Prevention Interventions (Part B), for either community water fluoridation (B-(1)), or school-based or school-linked dental sealants (B-(2)), but not both.

All applicants are eligible for CORE (Part A) funding. Eligible applicants or their bona fide agents for Prevention Interventions (Part B) are applicants successfully competing for CORE (Part A) and are not excluded as follows:

Part B-(1) Community water fluoridation

Applicants receiving funding for community water fluoridation under CDC's Program Announcement 99111, Water Fluoridation Assistance Program, are not eligible to apply for Part B-(1), but are eligible to apply for funding under Part B-(2).

Part B-(2) School-based or school-linked dental sealants

Applicants receiving funding for school-based or school-linked dental sealants under CDC's Program Announcement 99071, Oral Disease Prevention in School-Aged Children Using School-based or School-linked Oral Health Programs, are not eligible to apply for Part B-(2), but are eligible to apply for funding under Part B-(1).

In order to compete for funding under Part B, the applicant must either demonstrate the current existence of oral health program components, or apply and be approved for funding to establish, strengthen, or expand components under Part A.

Note: Public Law 104-65 states that an organization, described in section 501(c)(4) of the Internal Revenue Code of 1986, that engages in lobbying activities is not eligible to receive federal funds constituting an award, grant, cooperative agreement, contract, loan, or any other form.

C. Availability of Funds

Approximately $1.2 million is available in FY 2001 to fund approximately 3 to 6 awards.

Part A: Core

Approximately $800,000 is available for 3 to 6 CORE awards. It is expected that the average award will be $200,000.

Part B: Prevention Interventions

Approximately $400,000 is available for approximately 3 to 4 Prevention Intervention awards. It is expected that the average award will be $80,000.

B-(1) Approximately $200,000 for approximately 2 awards for community water fluoridation.

B-(2) Approximately $200,000 for approximately 2 awards for school-based or school-linked dental sealant programs.

It is expected that awards will begin on or about July 1, 2001, and will be made for a 12-month budget period within a project period of up to five years. Funding estimates may vary and are subject to change.

Continuation awards within the project period will be made on the basis of satisfactory progress as evidenced by required reports and evaluation findings and the availability of funds.

Direct Assistance

You may request federal personnel as direct assistance in years two through five, in lieu of a portion of financial assistance.

Use of Funds

Applicants may not use these funds to supplant oral health program funds from local, state, or federal (e.g., Preventive Health and Health Services Block Grant). Applicants must maintain current levels of support dedicated to oral health from these other sources. Funding received under this program announcement cannot be used for the purchase of dental services.

CORE funding may be used to establish or enhance needed oral health core capacity and infrastructure. Funding for core capacity may include, but not be limited to support for:

(1) Oral health program leadership (e.g., state dental director).

(2) Epidemiologic expertise.

(3) Coordination and/or management of oral health Prevention Intervention, and efforts in oral health awareness, health communication, and education.

(4) Support infrastructure needed to monitor and maintain the quality of water fluoridation (e.g., fluoridation specialist), including Information Technology equipment.

(5) Establish/manage state oral health coalition or advocacy group.

(6) Evaluate program accomplishments, including the processes and support to the coalition.

Prevention Intervention funding may be used to establish, enhance and/or expand program for:

(1) B-(1) Community Water Fluoridation Programs

a. Training and development of training materials for State fluoridation engineers and water plant operators.

b. Development of educational materials on the benefits of water fluoridation.

c. Support to monitor the quality of water fluoridation.

e. New and/or replacement fluoridation equipment, if needed.

f. Evaluation of progress of a community water fluoridation program.

g. Surveillance of ongoing fluoride systems.

h. Participation in CDC's Water Fluoridation Reporting System (WARS).

(2) B-(2) School-based or school-linked dental sealant programs

a. Program coordination or management.

b. Assessment of extent to which schools within the State are incorporating prevention oriented oral health information, prevention or treatment services.

c. Linkage and coordination activities resulting in more school-aged children with dental sealants.

d. Implementation of program activities.

e. Evaluation of program outcomes.

Pending the availability of funds:

(1) Purchase of dental sealant materials.

(2) Purchase of portable dental sealant equipment, if needed.

Recipient Financial Participation

Applicants requesting funding for community water fluoridation equipment under B-(1) of the Prevention Interventions (Part B), will be required to provide matching funds. Matching funds are required from state and/or local sources in an amount of not less than $1 for each $3 of federal funds awarded for community water fluoridation equipment under this program announcement. Matching funds may be in cash or its equivalent, including donated or in-kind appropriate equipment, supplies and or services.

CDC funding covers some of the costs of oral health core capacity, infrastructure and community-based prevention interventions, but it is not intended to fully support all aspects of the oral health program.

D. Program Requirements

In conducting activities to achieve the purpose of this program, the recipient will be responsible for the activities under 1 and 2 (Recipient Activities). CDC will be responsible for the activities listed under 3 (CDC Activities).

(1) Recipient Activities (CORE Part A)

a. Describe the oral health disparities within the state and document unmet oral health needs of target populations and the existing oral health assets (e.g., professional dental/dental hygiene schools, prevention interventions within the state).

b. Describe a feasible, measurable and realistic one year plan for reducing disparities in oral health. The one year plan must be in the context of the five year plan for this project. Applicants will be expected to annually update their one year plan.

c. Establish a coalition to assist in the formulation of plans, guide project activities, and identify additional financial resources for this project, including state, local and private sources. (This committee should be representative of stakeholder organizations within the state (e.g., state and local agencies, dental societies, public awareness groups, consumer groups, businesses)).

d. Based on the oral health indicators consistent with the National Oral Health Surveillance System (NOHSS) and WFRS, establish and maintain a surveillance system to:

(1) Monitor state-specific, population-based oral disease burden and track oral disease trends; and

(2) Measure changes in program capacity and community water fluoridation access and quality.

e. Identify prevention opportunities for reducing disparities in oral health and opportunities for collaboration with state and local partners, including changes in policy and communication and education.

f. Build linkages with partners to increase community capacity to address oral health issues.

g. Integrate, coordinate and implement population-based interventions.

h. Evaluate, document, and share state program accomplishments, best practices, lessons learned, and program costs. For more detailed information on evaluation, refer to “Framework for Program Evaluation in Public Health”. For more information, see Appendix IV.

(2) Recipient Activities (Prevention Interventions (Part B))

a. Community water fluoridation (B-(1))

(1) Describe and document the unmet needs in community water fluoridation, oral health needs of target populations, and existing oral health assets (e.g., dental/dental hygiene schools, state fluoridation coordinator, fluoridation training or education programs) within the state.

(2) Support infrastructure for the coordination and management of community water fluoridation programs and the infrastructure needed to monitor and maintain the quality of community water fluoridation.

(3) Develop or purchase and disseminate educational materials to increase awareness of the benefits of community water fluoridation.

(4) Provide and/or develop fluoridation training and fluoridation training materials for fluoridation engineers and water plant operators.

(5) Implement community-based health awareness:

a. Outline the nature and scope of the oral disease burden;

b. Target at-risk sub-populations or oral disease conditions; and

c. Evaluate the program, based on a clear evaluation strategy.

(6) Purchase new and/or replacement fluoridation equipment for community water systems, as needed.

(7) Evaluate community water fluoridation program accomplishments.

(8) Participate in CDC's (WFRS).

b. School-based or school-linked dental sealants (B-2)

(1) Describe and document the unmet oral health needs of target populations, number of eligible public or secondary schools, and existing oral health assets (e.g., dental/dental hygiene schools, oral disease prevention programs) within the state.

(2) Document collaborative working relationships between the state health department and the state educational agency and formal agreements (e.g., MOA).

(3) Support infrastructure for the coordination and management of school-based or school-linked dental sealant programs.

(4) Assess, implement, integrate and/or strengthen coordination of oral health education, prevention and linkages to preventive and treatment services within existing school health or coordinated (comprehensive) school health programs, including school-based health centers.

(5) Develop school-based or school-linked dental sealant programs targeting public elementary or secondary schools located in:

a. Urban areas, and in which more than 50% of the student population of that school or school entity is participating in federal or state free and reduced meal programs; or

b. Rural school districts having a median income that is at or below 235 percent of the poverty line, as defined in section 673(2) of the Community Services Block Grant Act (42 U.S.C. 9902(2)).

(6) Enhance linkages between coordinated (comprehensive) school health programs and oral health treatment providers and/or services for at-risk children.

(7) Evaluate the accomplishments and effectiveness of the implemented dental sealant program.

(3) CDC Activities

a. Update and provide information related to the purposes or activities of the program announcement and cooperative agreement program.

b. Provide programmatic and technical assistance for recipients and their stakeholders and partners through programmatic and technical consultation, workshops, information exchanges, and other forms of guidance, assistance, and information sharing to:

(1) Assist the recipient in the assessment the oral health status and behaviors of target sub-populations;

(2) Assist the recipient to design and implement strategies for Prevention Interventions based on best available science;

(3) Assist the recipient to design, evaluate and monitor the effectiveness of their Prevention Interventions;

(4) Distribute information documented on lessons learned, best practices and program costs; and

(5) Assist in the enhancing of recipients to evaluate state core capacity and their oral health program.

c. Communicate and share information, evaluations, data, and programmatic activities with other recipients and partners, as appropriate.

d. Coordinate conference calls, workshops and other info-sharing opportunities, as appropriate.

E. Application Content

Competing Applications

Use the information in the Program Requirements, Other Requirements, and Evaluation Criteria sections to develop the application content. Your application will be evaluated on the criteria listed, so it is important to follow them in laying out your program plan.

For the CORE (Part A), the narrative should be no more than 32 double-spaced pages. For each Prevention Intervention (Part B-(1) or B-2)) the narrative should be no more than 19 double-spaced pages. The application should be printed on one side with one inch margins, and 12 point Universal unreduced font.

An application, either requesting assistance for or satisfactory demonstration of existing CORE (Part A), is required of all applicants. The Prevention Interventions (Part B) is optional.

Application Content

(CORE Part A)

(1) Executive Summary (not to exceed 4 pages)

The applicant should provide a clear, concise 4 page written summary to include

a. Synthesis of the need for oral health programs to reduce disparities.

b. Changes in infrastructure required to support the proposed oral health disparity programs.

c. Major proposed objectives for implementation of the operational plan.

d. Amount of federal funding requested for Part A and Part B of this cooperative agreement.

(2) Statement of Need (not to exceed 7 pages)

a. Describe the oral health disparities within the State. Applicants should indicate specific sub-populations and the source(s) of data provided.

b. Describe the current assets and capacity of the State to reduce identified disparities with existing resources (e.g., private dental care providers, dental schools, state and local dental public health programs, Medicaid and States Children's Health Insurance Plan (SCHIP)).

c. Identify barriers and facilitators likely to affect the reduction of oral health disparities identified within various state sub-populations.

d. Describe the gaps in statewide infrastructure affecting the capability of the applicant to perform core functions and operate prevention programs to reduce the identified oral health disparities.

(3) Goals and Objectives (not to exceed 5 pages)

a. Design a logic model for your state oral health program. See APPENDIX II for a general logic model. Incorporate planned PREVENTION INTERVENTIONS if appropriate, into your state oral health logic model.

b. Goals: List feasible, realistic goals related to the logic model to be achieved during the budget period and during years two through five (project period).

c. Objectives: Provide specific, time-phased and measurable objectives to accomplish each goal related to your logic model. State how the achievement of the objectives will contribute to meeting the goal.

(4) Operational plan (not to exceed 5 pages)

a. Describe the operational plan for achieving each of the objectives in Section 1 above.

b. The operational plan should describe activities planned to complete each of the objectives. Applicants should link each time-phased objective with the activities intended to support that objective.

c. The operational plan should establish a time line for the completion of each component or major activity.

d. Identify the specific individual (person) responsible for each objective or activity.

(5) Evaluation Plan (not to exceed 6 pages)

Describe the plan for monitoring progress toward achieving the objectives stated in Section 1 above.

a. Indicate how the applicant plans to measure the achievement of each objective.

b. For the above objectives, specify measures, data collection protocols, and data quality required to obtain needed information for evaluation activities.

c. Using your logic model as a framework, specify

(1) The indicators for process and outcome objectives,

(2) Expected increase in capacity of the state oral health program, delivery systems, and communities as appropriate,

(3) Changes in oral health outcomes due to oral disease reduction programs.

d. Plans for analysis, interpretation, and reporting of evaluation findings.

e. Plans for use of evaluation findings to strengthen the oral health program, support policies, and improve oral health outcomes.

f. Provide a time-line for the completion of the evaluation.

(6) Program Management (not to exceed 5 pages)

a. Describe the employing agencies or institutions, as well as professional backgrounds of existing or proposed staff that will be responsible for each functional aspect involved with this project, including percent of time commitment. Include Cum Vitas as appropritate.

b. Describe the qualifications of in-kind and project budgeted staff.

c. Provide evidence of state support for the proposed project.

d. Describe how the coalition will be involved in the planning, implementation, and evaluation of the proposed project.

e. Describe the management team and how they will coordinate responsibility for different program aspects.

f. Identify staff that will direct the evaluation efforts and oversee any additional team members assigned to evaluation tasks. Provide a detailed description of expertise, experience, and delineation of staff, and responsibilities for the program evaluation team.

(7) Budget and Accompanying Justification (no page limitation)

Submit a detailed budget for CORE (Part A), and line-item justification that is consistent with the purpose of the program and the proposed project objectives and activities, using the format of the sample budget provided in appendix III.

To the extent necessary, applicants are encouraged to include travel for up to four (4) persons associated with this project to each attend up to three (3) workshops, training courses, or technical assistance meetings. For the purpose of the initial funding period, the applicant should budget for the workshops, training courses, and technical assistance meetings to be held in Atlanta, Georgia.

To the extent necessary, applicants are encouraged to include travel for two (2) staff or selected representatives to annually participate in the National Oral Health Conference. For the purpose of the initial funding period, the applicant should budget for the 2002 National Oral Health Conference to be held in Boston, MA.

Application Content

Prevention Interventions (Part B)

(1) Executive Summary (not to exceed 4 pages)

The applicant is asked to provide a clear, concise 4 page written summary to include:

a. Synthesis of the need for oral health programs to reduce disparities;

b. Changes in infrastructure required to support the proposed oral health disparity programs;

c. Major proposed objectives for implementation of the operational plan; and

d. Amount of federal funding requested for Part A and Part B of this cooperative agreement.

(2) Statement of Need (not to exceed 7 pages)

The applicant is encouraged to reference their CORE Statement of Need section as necessary. Be sure to describe the need for Prevention Interventions (Part B-(1) or B-(2)) for which funding is being requested.

a. Describe the oral health disparities within the state and how these areas relate to community water fluoridation and school-linked/or school-based dental sealant programs. Applicants should indicate specific sub-populations and the source(s) of data provided.

b. Describe the current assets and capacity of the state to reduce identified disparities with existing resources (e.g. private dental care providers, dental schools, state, and local dental public health programs, Medicaid and States Children's Health Insurance Plan (SCHIP)).

c. Identify barriers and facilitators likely to affect the reduction of oral health disparities identified within various state sub-populations.

d. Describe the gaps in statewide infrastructure affecting the capability of the applicant to perform core functions and operate prevention programs to reduce the identified oral health disparities.

(3) Goals and Objectives (not to exceed 1 page)

a. Goals: List realistic goals related to the logic model to be achieved during the budget period and during years two through five (project period).

b. Objectives: Provide specific, time-phased and measurable objectives to accomplish each goal as related to your logic model. Reference Section 3 of your CORE Goals and Objectives as appropriate or Appendix II for more information. State how the achievement of the objective will contribute to meeting the goal.

(4) Operational plan (not to exceed 3 pages)

a. Describe the operational plan for achieving each of the objectives in Section 1 above.

b. The operational plan should describe activities planned to complete each of the objectives. Applicants should link each time-phased objective with the activities intended to support that objective.

c. The operational plan must establish a time line for the completion of each component or major activity.

d. Identify which individual will be responsible for each objective or activity.

(5) Evaluation Plan (not to exceed 2 pages)

Describe the plan for monitoring progress toward achieving the objectives stated in Section 1 above.

a. Indicate how the applicant plans to measure the achievement of each objective.

b. For the above objectives, specify measures, data collection protocols, and data quality required to obtain needed information for evaluation activities.

c. Using your logic model as a framework, specify

(1) The indicators for process and outcome objectives,

(2) Expected increase in capacity of the state oral health program, delivery systems, and communities as appropriate,

(3) Changes in oral health outcomes due to oral disease reduction programs.

d. Plans for analysis, interpretation and reporting of evaluation findings.

e. Plans for use of evaluation findings to strengthen the oral health program, supporting policies and improve oral health outcomes.

f. Provide a time line for the completion of the evaluation.

(6) Program Management (not to exceed 2 pages)

a. Describe the employing agencies or institutions, as well as professional backgrounds of existing or proposed staff that will be responsible for each functional aspect involved with this project, including percent of time commitment.

b. Describe the qualifications of in-kind and project budgeted staff.

c. Provide evidence of state support for the proposed project.

d. Describe how the coalition will be involved in the planning, implementation, and evaluation of the proposed project.

e. Describe the management team and how they will coordinate responsibility for different program aspects.

f. Identify staff that will direct the evaluation efforts and oversee any additional team members assigned to evaluation tasks. Provide a detailed description of expertise, experience and areas of responsibility for the program evaluation.

g. If an applicant is requesting funding for Prevention Interventions (Part B-(2)), (e.g., dental sealant program) provide a copy of an appropriate MOA, or other written agreement(s) between the state heath department and other State agencies (e.g., state educational agency). If an appropriate MOA, or other written agreement(s) are unavailable, the applicant must provide letters from both agencies showing a commitment for the development of an appropriate MOA, or other written agreement(s) is encouraged.

(7) Budget and Accompanying Justification (no page limitation)

Submit a detailed separate budget for the Prevention Interventions (Part B) and line-item justification that is consistent with the purpose of the program and the proposed project objectives and activities and using the format of the sample budget provided in Appendix III. If applicant is requesting support for community water fluoridation (Part B-(1)), please include the match portion (refer to Recipient Financial Participation under section C) in your budget. Include type (cash, or cash equivalent, in-kind or donated), source, and how the valuation was determined.

Direct Assistance

To request new direct-assistance assignees, include:

(1) number of assignees requested;

(2) description of the position and proposed duties;

(3) ability or inability to hire locally with financial assistance;

(4) justification for request;

(5) organizational chart and name of intended supervisor;

(6) opportunities for training, education, and work experiences for assignees; and

(7) description of assignee's access to computer equipment for communication with CDC (e.g., personal computer at home, personal computer at workstation, shared computer at workstation on site, shared computer at a central office).

F. Submission and Deadline

Letter of Intent (LOI)

Prospective applicants are asked to submit a letter of intent to enable CDC to determine the level of interest in this announcement. Although a letter of intent is not required, is not binding and will not enter into the review of subsequent applications, the information that it contains will allow CDC staff to estimate the potential workload and to avoid conflict of interest in the review. Your letter of intent should include the following information. (1) Program Announcement number 01046, as noted above and (2) intent to request CoreORE and Prevention Interventions (B-(1) or B-(2)) finding. The letter of intent must be submitted on or before April 17, 2001, to the Grants Management Specialist identified in the “Where to Obtain Additional Information” section of this announcement.

Application

Submit the original and two copies of PHS 5161-1 (OMB Number 0937-0189). Forms are available at the following Internet address: www.cdc.gov/od/pgo/forminfo.htm, or in the application kit. On or before May 15, 2001, submit the application to the Grants Management Specialist identified in the “Where to Obtain Additional Information” section of this announcement.

Deadline: Applications shall be considered as meeting the deadline if they are either:

a. Received on or before the deadline date.

b. Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC. Applications for Parts A and B will be individually scored. Each part will be allocated a total of 100 points, according to the following criteria. See chart below for more details.

| Part A | Part B-1 or B-2
1. Statement of Need | 15 | 15
2. Goals & Objectives | 20 | 20
3. Operational Plan | 30 | 30
4. Evaluation Plan | 15 | 20
5. Program Management | 20 | 15
6. Budget | Not | Scored

(1) Statement of Need

The extent to which applicant identifies specific needs related to the purpose of this program announcement. Disparities of specific sub-populations have been identified along with barriers and needs. (Refer to Section D.1.a, D.2.a.1, and D.2.b.1 for more details.)

(2) Goals and Objectives

The extent to which (1) applicant's logic model ties project goals and objectives to health outcomes, (2) goals are feasible and realistic, (3) objectives are realistic, time phased, and measurable and are linked to appropriate evaluation criteria.

(3) Operational Plan

The adequacy of the applicant's plan to carry out the proposed activities supports the achievement of the objectives and seems realistic. The extent to which the applicant's proposed activities are necessary and sufficient to accomplish of each of the stated objectives.

(4) Evaluation Plan

The extent to which the following are identified: (1) measures selected to monitor accomplishments; (2) development and implementation of an evaluation plan; (3) strategies for measuring program effectiveness, obtaining data, reporting results; (4) use of the results for making programmatic decisions that are feasible and result in improvements in the program, policies, and the state oral health plan. (Refer to Section D.1.g, D.2.a.6.c, D.2.a.8, and D.2.b.7 for more detail.)

(5) Program Management

The extent to which current, proposed staff and staff functions support the applicant's capacity to perform the project and the extent to which the following have been demonstrated: (1) clear delineation of responsibility; (2) commitment of sufficient time by key staff; (3) commitment of state resources to proposed project; (4) meaningful involvement of coalition in planning, implementation, and evaluation; (5) specificity and soundness of the approach for how the program will be managed.

(6) Budget (not scored)

The extent to which the applicant provides a detailed and clear budget along with justifications, a demonstration that the proposed use of funding is consistent with the proposed program objectives and activities see the sample budget in Appendix III.

H. Other Requirements

Technical Reporting Requirements

Provide CDC with original plus two copies of

(1) Semi-annual progress reports. The progress reports should include the following for each objective involved:

a. Progress made toward accomplishment of goals and objectives, including specific comparisons of actual accomplishment of objectives compared to the planned accomplishments for the reporting period;

b. The reasons for slippage as appropriate; and

c. Other pertinent information including, when appropriate, analysis and explanation of unexpectedly high costs for performance.

(2) Financial status report, no more than 90 days after the end of the budget period.

(3) Final financial and performance reports, no more than 90 days after the end of the project period.

Send all reports to the Grants Management Specialist identified in the “Where to Obtain Additional Information” section of this announcement.

The following additional requirements are applicable to this program. For a complete description of each, see Attachment I in the application kit.

AR-7 Executive Order 12372 Review

AR-9 Paperwork Reduction Act Requirements

AR-10 Smoke-Free Workplace Requirements

AR-11 Healthy People 2010

AR-12 Lobbying Restrictions

I. Authority and Catalog of Federal Domestic Assistance Number

This program is authorized under section 301(a), 311 (b) and (c), 317 (k)(2), and 317M of the Public Health Service Act, [42 U.S.C. section 241(a), 243 (b) and (c), 247b (k)(2) and 247b-14], as amended. The Catalog of Federal Domestic Assistance number is 93.283.

J. Where to Obtain Additional Information

This and other CDC announcements can be found on the CDC home page Internet address—http://www.cdc.gov Click on “Funding” then “Grants and Cooperative Agreements.”

If you have questions after reviewing the contents of all the documents, business management technical assistance may be obtained from: Cynthia Collins, Grants Management Specialist, Grants Management Branch, Procurement and Grants Office, Centers for Disease Control and Prevention, Program Announcement 01046, 2920 Brandywine Road, Room 3000; Mailstop E-18, Atlanta, GA 30341-4146; Telephone number (770) 488-2757; Email address coc9@cdc.gov.

For program technical assistance, contact: Kathleen Heiden, RDH, MSPH, Division of Oral Health, National Center for Chronic Disease Prevention and Health Promotion, Centers for Disease Control and Prevention (CDC), Mail Stop F-10, 4770 Buford Highway, NE, Atlanta, GA; Telephone number (770) 488-6056; Email Address oralhealthgrants@cdc.gov.

Dated: April 9, 2001.
John L. Williams,
Director, Procurement and Grants, Office.

[FR Doc. 01-9153 Filed 4-12-01; 8:45 am]

BILLING CODE 4163-18-P